BROADCASTING BOARD OF GOVERNORS

Sunshine Act Meeting Notice

TIME AND DATE: Wednesday, June 3, 2020, 12:00 p.m.-1:00 p.m. ET.

PLACE: Teleconference.

MATTERS TO BE CONSIDERED: The U.S. Agency for Global Media's (USAGM) Board of Governors (Board) may conduct a telephonic meeting closed to the public at the time listed above pursuant to 5 U.S.C. 552b(c)(9)(B) in order to protect and prevent disclosure of a discussion which would be likely to significantly frustrate implementation of a proposed Agency action. The Board also determined that shorter than usual notice for a meeting was required by official Agency business and delayed availability of required information. The meeting is being called pursuant to Section 2.15 of the USAGM's Board by-laws. In accordance with the Government in the Sunshine Act and USAGM policies, any such meeting will be recorded and a transcript of the proceedings, subject to the redaction of information protected by 5 U.S.C. 552b(c)(6), will be made available to the public. The publicly-releasable transcript will be available for download at www.usagm.gov within 21 days of the date of the meeting. Information regarding member votes to close the meeting and expected attendees can also be found on the Agency's public website.

CONTACT PERSON FOR MORE INFORMATION: Persons interested in obtaining more information should contact Oanh Tran at (202) 920-2004.

Chelsea Milko,
Special Assistant to the CEO Office.

[FR Doc. 2020-12281 Filed 6-2-20; 4:15 pm]

BILLING CODE 8610-01-P